DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of persons that have been placed on OFAC's Specially Designated Nationals and Blocked Persons List (SDN List) based on OFAC's determination that one or more applicable legal criteria were satisfied. All property and interests in property subject to U.S. jurisdiction of these persons are blocked, and U.S. persons are generally prohibited from engaging in transactions with them. OFAC is also publishing the names of one or more persons that have been removed from the SDN List.

DATES: See SUPPLEMENTARY INFORMATION section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

A. On February 8, 2023, OFAC determined that the property and interests in property subject to U.S. jurisdiction of the following persons are blocked under the relevant sanctions authorities listed below.

Individuals

1. ARCHAGA CARIAS, Yulan Adonay (a.k.a. “MENDOZA, Alexander”; a.k.a. “PORKY”), Honduras; DOB 13 Feb 1982; alt. DOB 21 Jan 1982; POB San Pedro Sula, Cortes, Honduras; nationality Honduras; Gender Male (individual) [TCO] (Linked To: MS-13).

Designated pursuant to section 1(a)(ii)(C) of Executive Order 13581 of July 24, 2011, “Blocking Property of Transnational Criminal Organizations,” 76 FR 44757 (July 27, 2011) (E.O. 13581), as amended by Executive Order 13863 of March 15, 2019, “Taking Additional Steps to Address the National Emergency With Respect to Significant Transnational Criminal Organizations,” 84 FR 10255 (March 19, 2019) (E.O. 13581, as amended), for being owned or controlled by, or having acted or purported to act for or on behalf of, directly or indirectly, MS-13, a person whose property and interests in property are blocked pursuant to E.O. 13581.

2. CAMPBELL LICONA, David Elias (a.k.a. PEREZ PAZ, Jorge Eduardo; a.k.a. “CAMPBELL, David”; a.k.a. “DON DAVID”; a.k.a. “VIEJO DAN”), Nicaragua; DOB 18 Mar 1967; alt. DOB 20 Oct 1967; alt. DOB 02 Jan 1964; POB San Pedro Sula, Honduras; nationality Honduras; Gender Male; Numero de Identidad 0501-1967-02094 (Honduras) (individual) [TCO] (Linked To: MS-13).

Designated pursuant to section 1(a)(ii)(C) of E.O. 13581, as amended, for being owned or controlled by, or having acted or purported to act for or on behalf of, directly or indirectly, MS-13, a person whose property and interests in property are blocked pursuant to E.O. 13581.

B. On February 8, 2023, OFAC determined that circumstances no longer warrant the inclusion of the following persons on the SDN List and that their property and interests in property are no longer blocked under E.O. 13581, as amended.

BILLING CODE 4810-AL-P

Individuals

BILLING CODE 4810-AL-C

Entities

1. FRIENDS TRAVEL INN PRIVATE LIMITED (a.k.a. FRIENDS TRAVEL INN PVT LTD), Basement Al Hajj Tower Basement Jhangir Abad Bus Stop, University Road, Peshawar 25000, Pakistan; Basement Al Haj Tower, University Road, Peshawar, Kyhber Pakhtunkhwa 25000, Pakistan; website www.ftravelinn.com; Organization Established Date 04 Jul 2010; Organization Type: Travel agency activities; Commercial Registry Number 0072107 (Pakistan) [TCO] (Linked To: ABID ALI KHAN TRANSNATIONAL CRIMINAL ORGANIZATION).

2. M S GROUP INVEST OOO, 9 Prospekt Universitetski, Moscow 119296, Russia; National ID No. 5107746076994 (Russia); alt. National ID No. 69686198 (Russia); alt. National ID No. 7736626537 (Russia) [TCO].

3. AVUAR OOO (a.k.a. AVUAR LLC), 12/120, Komn 51, Ulitsa Demokraticheskaya, Samara 443031, Russia; National ID No. 1036300456213 (Russia); alt. National ID No. 14565711 (Russia); alt. National ID No. 6315565439 (Russia) [TCO].

Dated: February 8, 2023.
Andrea M. Gacki,
Director, Office of Foreign Assets Control, U.S. Department of the Treasury.

[FR Doc. 2023-02992 Filed 2-10-23; 8:45 am]

BILLING CODE 4810-AL-P